DEPARTMENT OF COMMERCE

International Trade Administration

(C-533-063)

Certain Iron-Metal Castings from India: Notice of Amended Final Results Pursuant to Final Court Decision

AGENCY: Import Administration, International Trade Administration, Department of Commerce.

SUMMARY: On June 16, 2005, the United States Court of International Trade (CIT) sustained the Department of Commerce's (the Department) July 9, 2004, Final Results of Redetermination on Remand Pursuant to Kiswok Industries Pvt. Ltd. v. United States, pursuant to Slip Op. 04-54 (CIT May 20, 2004), (Remand Determination), which pertains to Certain Iron-Metal Castings from India: Final Results of Countervailing Duty Administrative Review, 65 FR 31515 (May 18, 2000) (Iron-Metal Castings). See Kiswok Industries Pvt. Ltd. and Calcutta Ferrous Ltd. v. United States, Court No. 00-03-00127, Slip. Op. 05-73 (CIT, June 16, 2005). Because all litigation in this matter has concluded, the Department is issuing amended final results for Iron-Metal Castings in accordance with the CIT's decision.

EFFECTIVE DATE: July 20, 2005

FOR FURTHER INFORMATION CONTACT: Robert Copyak, AD/CVD Operations, Office 3, Import Administration, International Trade Administration, U.S. Department of Commerce, 14th Street and Constitution Ave., N.W., Washington, DC 20230; telephone: (202) 482-2209.

SUPPLEMENTARY INFORMATION:

Background

On May 18, 2000, the Department published its final results of administrative review in Iron-Metal Castings. Calcutta Ferrous Ltd. and Kiswok Industries Pvt. Ltd. (collectively “respondents”) challenged the Department's final results before the CIT. In the administrative review, Calcutta Ferrous Ltd. argued that “in calculating the benefits received by castings exporters from export loans, Commerce failed to take into account penalty interest paid at interest rates higher than the benchmark.” See Comment 7 of the May 18, 2000, Issues and Decision Memorandum that accompanied Iron-Metal Castings. In Kiswok Industries Pvt. Ltd. and Calcutta Ferrous Ltd. v. United States, Slip Op. 04-54 (CIT May 20, 2004) (Kiswok v. United States), the Court concurred with Calcutta Ferrous Ltd.'s position. Id. at 15-18. The Court also disagreed with Commerce's position in Iron-Metal Castings that the overdue portion of the loan becomes a new loan with a new applicable interest rate. Id. at 17-18.

In light of the Court's instructions in Kiswok v. United States, the Department, in its redetermination, recalculated the benefit Calcutta Ferrous Ltd. realized from its preferential loans, taking into account all of the interest paid thereon. See Remand Determination. The Department recalculated the program rate with respect to Calcutta Ferrous' export credit loans to be 0.22 percent ad valorem. With this change in the program rate, the final rate for Calcutta Ferrous changed to 9.25 percent ad valorem. No party submitted comments regarding the Department's Remand Determination. On June 16, 2005, the CIT sustained the Department's redetermination in all respects and thus affirmed the Department's recalculations.

On July 20, 2005, the Department, consistent with the decision of the United States Court of Appeals for the Federal Circuit in Timken Co. v. United States, 893 F.2d 337 (Fed. Cir. 1990), notified the public that the Kiswok v. United States decision was “not in harmony” with the Department's original results. See Certain Iron-Metal Castings from India: Notice of Court Decision and Suspension of Liquidation, 70 FR 41687 (July 20, 2005) (Timken Notice). The Timken Notice continued the suspension of liquidation, and further informed that if the CIT's decision was not appealed, or if appealed and the appeal was upheld, the Department would publish amended final countervailing duty results. Id.

Amended Final Determination

Because there is now a final and conclusive decision in the court proceeding, we are amending the final results and establishing for Calcutta Ferrous the revised countervailing duty rate of 9.25 percent, effective as of July 20, 2005, the publication date of the Timken Notice. Accordingly, we will instruct the CBP to assess countervailing duties at 9.25 percent ad valorem on all shipments of the subject merchandise from Calcutta Ferrous Ltd., entered, or withdrawn from warehouse, for consumption on or after January 1, 1997, through Decemeber 31, 1997.

This determination is published pursuant to sections 751(3)(c) and 777(i) of the Act.

Dated: September 7, 2005.
Joseph A. Spetrini,
Acting Assistant Secretary for Import Administration.

[FR Doc. 05-18586 Filed 9-16-05; 8:45 am]

BILLING CODE 3510-DS-S